DEPARTMENT OF ENERGY

Federal Energy Regulatory Commission

[Docket No. CP98-132-001]

Northern Natural Gas Company; Notice of Amendment

August 11, 2000.

Take notice that on August 2, 2000, Northern Natural Gas Company (Northern), 1111 South 103rd Street, Omaha, Nebraska 68124, filed in Docket No. CP98-132-001 an application pursuant to Sections 7(c) of the Natural Gas Act to amend the certificate of public convenience and necessity granted by order issued June 30, 1998, in Docket No. CP98-132-000,¹ all as more fully set forth in the application which is on file with the Commission and open to public inspection. The application may be viewed on the web at www.ferc.fed.us. Call (202) 208-2222 for assistance.

¹ Northern Natural Gas Company, 83 FERC ¶61,354 (1998).

In its amended application, Northern proposed to construct and operate facilities consisting of two segments of pipe totaling approximately 5.6 miles of 30-inch-diameter pipe, with appurtenances, to be located in Washington and Dakota Counties, Minnesota, rather than construct the facilities originally authorized in Docket No. CP98-132-000. Northern proposes to extend its 30-inch-diameter C-Line approximately 2.3 miles to be located in Washington County, and extend its 30-inch-diameter D-Line approximately 3.3 miles to be located in Dakota County. Northern states that the proposed facilities are necessary to provide 40 MMcf per day of incremental firm transportation service to Koch Energy Services for use at its Rosemount Refinery. The total cost for the proposed project is estimated to be $8.1 million.

Any questions regarding this application should be directed to Keith L. Petersen, Director, Certificates and Reporting for Northern, 1111 South 103rd Street, Omaha, Nebraska 68124, at (402) 398-7421 or Michele Winckowski, Senior Regulatory Analyst, at (402) 398-7082.

Any person desiring to participate in the hearing process or to make any protest with reference to said application should on or before September 1, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Northern to appear or be represented at the hearing.

David P. Boergers,
Secretary.

[FR Doc. 00-20903 Filed 8-16-00; 8:45 am]

BILLING CODE 6717-01-M